DEPARTMENT OF HOUSING AND URBAN DEVELOPMENT

[Docket No. FR-4903-N-43]

Notice of Submission of Proposed Information Collection to OMB; Emergency Comment Request; Grant Application for Section 202 Supportive Housing for the Elderly

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

This is a request for approval of a revision to the currently approved information collection for selecting applicants for the Section 202 Supportive Housing for the Elderly program grants which will be part of the 2004 Notice of Funding Availability (NOFA).

Congress has introduced a new facet to the Section 202 Program authorizing Demonstration Planning Grant funding for Sponsors of projects that receive Fund Reservation Awards. This predevelopment grant funding will be for architectural and engineering work, site control, and other planning related expenses.

DATES: Comments Due Date: July 8, 2004.

ADDRESSES: Interested persons are invited to submit comments regarding this proposal. Comments must be received within seven (7) days from the date of this Notice. Comments should refer to the proposal by name/or OMB approval number (2502-0267) and should be sent to: HUD Desk Officer, Office of Management and Regulatory Affairs, Office of Management and Budget, New Executive Office Building, Washington, DC 20503.

FOR FURTHER INFORMATION CONTACT: Wayne Eddins, Paperwork Reduction Act Compliance Officer, AYO, Department of Housing and Urban Development, 451 Seventh Street, SW., Washington, DC 20410; e-mail Wayne_Eddins@HUD.gov; telephone (202) 708-2374. This is not a toll-free number. Copies of available documents submitted to OMB may be obtained from Mr. Eddins or on HUD's Web site at http://www5.hud.gov:63001/po/i/icbts/collectionsearch.cfm.

SUPPLEMENTARY INFORMATION: This Notice informs the public that the U.S. Department of Housing and Urban Development (HUD) has submitted to OMB, for emergency processing, a proposed revision to the currently approved information collection for selecting applicants for the Fair Housing Initiatives (FHIP) Program grants.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Grant Application for Section 202 Supportive Housing for the Elderly.

Description of Information Collection: This is a revision to the currently approved information collection for selecting applicants for the Section 202 Supportive Housing for the Elderly program grants which will be part of the 2004 Notice of Funding Availability (NOFA).

Congress has introduced a new facet to the Section 202 Program authorizing Demonstration Planning Grant funding for Sponsors of projects that receive Fund Reservation Awards. This predevelopment grant funding will be for architectural and engineering work, site control, and other planning related expenses.

OMB Control Number: 2502-0267.

Agency Form Numbers: HUD forms 92015-CA, 92041, 92042, plus standard grant application forms SF 424, and HUD-424B, 424C, 424CB, 424CBW, 2880, 2990, 2991, 96010, and OMB SF LLL.

Members of Affected Public: Not-for-profit institutions.

Estimation of the total numbers of hours needed to prepare the information collection including number of respondents, frequency of responses, and hours of response: An estimation of the total number of hours needed to prepare the information collection is 42 hours per applicant plus 7 hours for those who also apply for the Demonstration Planning grant. The estimated number of respondents is 361. The frequency of response is once per annum. The total public burden is estimated to be 15,200 hours.

Status: Revision of a currently approved collection.

Authority: The Paperwork Reduction Act of 1995, 44 U.S.C. Chapter 35, as amended.

Dated: June 25, 2004.
Wayne Eddins,
Departmental Reports Management Officer, Office of the Chief Information Officer.

[FR Doc. 04-14885 Filed 6-30-04; 8:45 am]

BILLING CODE 4210-72-P